SECURITIES AND EXCHANGE COMMISSION

Sunshine Act Meeting

Notice is hereby given, pursuant to the provisions of the Government in the Sunshine Act, Pub. L. 94-409, that the Securities and Exchange Commission will hold the following meetings during the week of November 27, 2000.

An open meeting will be held on Wednesday, November 29, 2000, at 10:00 a.m. in Room 1C30, the Williams O. Douglas Room.

The subject matter of the open meeting will be:

The Commission will hear oral argument on an appeal by Seaboard Investment Advisers, Inc. and Eugene W. Hansen (together, the “Respondents”) as well as the Division of Enforcement from an administrative law judge's initial decision.

The law judge found that the United States District Court for the Eastern District of Virginia had issued an order, with Respondents' consent without admitting or denying liability, permanently enjoining the Respondents from violating Sections 206(1), 206(2), and 206(4) of the Investment Advisers Act of 1940 and Advisers Act Rule 206(4)-1(a)(5) and from violating an earlier Commission Order Making Findings and Imposing Remedial Sanctions and Cease and Desist Order. On the basis of the injunction, the law judge revoked the registration of Seaboard and suspended Hansen from being associated with an investment adviser for a period of twelve months.

Among the issues likely to be argued are the following:

(1) Whether the record establishes that the Respondents were permanently enjoined from violating antifraud provisions of the securities laws and from violating an earlier Commission cease-and-desist order; and

(2) If so, what sanction, if any, is appropriate in the public interest.

For further information, contact Alissa L. Baum at (202) 942-0923.

Closed meetings will be held on Wednesday, November 29, 2000 and Thursday, November 30, 2000 at 11:00 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(4), (8)(A) and (10) and 17 CFR 200.402(a)(4), (8), (9)(A) and (10), permit consideration for the scheduled matters at the closed meeting.

The subject matter of the closed meeting scheduled for Wednesday, November 29, 2000 will be: post argument discussion; and an opinion.

The subject matters of the closed meeting scheduled for Thursday, November 30, 2000 will be: institution and settlement of injunctive actions; and institution and settlement of administrative proceedings of an enforcement nature.

At times, changes in Commission priorities require alterations in the scheduling of meeting items. For further information and to ascertain what, if any, matters have been added, deleted or postponed, please contact:

The Office of the Secretary at (202) 942-7070.

Dated: November 22, 2000.
Jonathan G. Katz,
Secretary.

[FR Doc. 00-30235 Filed 11-22-00; 11:28 am]

BILLING CODE 8010-01-M